NUCLEAR REGULATORY COMMISSION

Yucca Mountain; Notice of Receipt and Availability of Application

On June 3, 2008, the Department of Energy (DOE, or the Applicant) filed a license application for a geologic repository to be located at Yucca Mountain in Nye County, Nevada with the Nuclear Regulatory Commission (the Commission) pursuant to section 114 of the Nuclear Waste Policy Act, as amended, 42 U.S.C. 10134, 10 CFR Part 63 and 10 CFR 2.101.

The information submitted by the Applicant includes information that the Applicant has identified as classified national security information. For informational purposes, the Applicant also provided, in electronic format, copies of primary references, and a matrix that cross-references sections of the application to 10 CFR Part 63 and NUREG-1804.

Subsequent Federal Register notices will address the NRC Staff's determination of the acceptability or non-acceptability of the tendered application for docketing and provisions for participation of the public in the review process.

A copy of the application is available for public inspection at the Commission's Public Document Room (PDR), located at One White Flint North, 11555 Rockville Pike (first floor), Rockville, Maryland, and via the Agencywide Documents Access and Management System (ADAMS) Public Electronic Reading Room on the Internet at the NRC Web site, http://www.nrc.gov/reading-rm/adams.html. The accession number for the application is ML081560408. Future publicly available documents related to the application will also be posted in ADAMS. Persons who do not have access to ADAMS, or who encounter problems in accessing the documents located in ADAMS, should contact the NRC Public Document Room staff by telephone at 1-800-397-4209 or 301-415-4737, or by e-mail to pdr.resource@nrc.gov. The application is also available at http://www.nrc.gov/waste/hlw-disposal/yucca-lic-app.html.

Dated at Rockville, Maryland, this 10th day of June 2008.
For the U.S. Nuclear Regulatory Commission.
Lawrence E. Kokajko,
Director, Division of High-Level Waste Repository Safety, Office of Nuclear Material Safety and Safeguards.

[FR Doc. E8-13573 Filed 6-16-08; 8:45 am]

BILLING CODE 7590-01-P